DEPARTMENT OF ENERGY

Federal Energy Regulatory Commission

Combined Notice of Filings #2

Take notice that the Commission received the following electric rate filings:

Docket Numbers: ER19-2253-000.

Applicants: Midcontinent Independent System Operator, Inc.

Description: § 205(d) Rate Filing: 2019-06-26_SA 3325 NSP-WMU T-T (Priam) to be effective 6/1/2019.

Filed Date: 6/26/19.

Accession Number: 20190626-5095.

Comments Due: 5 p.m. ET 7/17/19.

Docket Numbers: ER19-2254-000.

Applicants: Southwest Power Pool, Inc.

Description: § 205(d) Rate Filing: 2640R1 Sunflower Electric Power Corporation NITSA NOA to be effective 6/1/2019.

Filed Date: 6/26/19.

Accession Number: 20190626-5102.

Comments Due: 5 p.m. ET 7/17/19.

Docket Numbers: ER19-2255-000.

Applicants: Brookfield Smoky Mountain Hydropower LP.

Description: § 205(d) Rate Filing: Notice of Succession to be effective 6/1/2019.

Filed Date: 6/26/19.

Accession Number: 20190626-5104.

Comments Due: 5 p.m. ET 7/17/19.

Docket Numbers: ER19-2256-000.

Applicants: Midcontinent Independent System Operator, Inc.

Description: § 205(d) Rate Filing: 2019-06-26_SA 3324 Chandler Solar Project-ATC GIA (J849) to be effective 6/12/2019.

Filed Date: 6/26/19.

Accession Number: 20190626-5106.

Comments Due: 5 p.m. ET 7/17/19.

Docket Numbers: ER19-2257-000.

Applicants: Southwest Power Pool, Inc.

Description: § 205(d) Rate Filing: 2641R1 Sunflower Electric Power Corporation NITSA NOA to be effective 6/1/2019.

Filed Date: 6/26/19.

Accession Number: 20190626-5141.

Comments Due: 5 p.m. ET 7/17/19.

Docket Numbers: ER19-2258-000.

Applicants: Duke Energy Carolinas, LLC.

Description: § 205(d) Rate Filing: DEC NCEMC NITSA (SA No. 210) Amendment to be effective 7/1/2019.

Filed Date: 6/26/19.

Accession Number: 20190626-5159.

Comments Due: 5 p.m. ET 7/17/19.

Docket Numbers: ER19-2259-000.

Applicants: Turquoise Nevada LLC.

Description: Baseline eTariff Filing: Turquoise Nevada FERC MBR Application to be effective 6/27/2019.

Filed Date: 6/26/19.

Accession Number: 20190626-5164.

Comments Due: 5 p.m. ET 7/17/19.

Docket Numbers: ER19-2260-000.

Applicants: Valentine Solar, LLC.

Description: Market-Based Triennial Review Filing: 2019 Triennial Market Power Update for the Southwest Region—Valentine Solar to be effective 8/26/2019.

Filed Date: 6/26/19.

Accession Number: 20190626-5166.

Comments Due: 5 p.m. ET 8/26/19.

Docket Numbers: ER19-2261-000.

Applicants: RE Mustang LLC.

Description: § 205(d) Rate Filing: Request for Cat. 1 Seller Status in the SW Region & Revised MBR Tariff to be effective 6/27/2019.

Filed Date: 6/26/19.

Accession Number: 20190626-5172.

Comments Due: 5 p.m. ET 7/17/19.

Docket Numbers: ER19-2262-000.

Applicants: RE Mustang 3 LLC.

Description: § 205(d) Rate Filing: Request for Cat. 1 Seller Status in the SW Region & Revised MBR Tariff to be effective 6/27/2019.

Filed Date: 6/26/19.

Accession Number: 20190626-5174.

Comments Due: 5 p.m. ET 7/17/19.

Docket Numbers: ER19-2263-000.

Applicants: RE Mustang 4 LLC.

Description: § 205(d) Rate Filing: Request for Cat. 1 Seller Status in the SW Region & Revised MBR Tariff to be effective 6/27/2019.

Filed Date: 6/26/19.

Accession Number: 20190626-5178.

Comments Due: 5 p.m. ET 7/17/19.

Docket Numbers: ER19-2264-000.

Applicants: Northern Indiana Public Service Company.

Description: § 205(d) Rate Filing: Filing of an Amended CIAC Agreement to be effective 6/27/2019.

Filed Date: 6/26/19.

Accession Number: 20190626-5179.

Comments Due: 5 p.m. ET 7/17/19.

Docket Numbers: ER19-2265-000.

Applicants: TransCanada Energy Sales Ltd.

Description: § 205(d) Rate Filing: TransCanada Energy Sales—Revised Electric MBR Tariff to be effective 6/27/2019.

Filed Date: 6/26/19.

Accession Number: 20190626-5185.

Comments Due: 5 p.m. ET 7/17/19.

Docket Numbers: ER19-2266-000.

Applicants: Quitman Solar, LLC.

Description: Baseline eTariff Filing: Quitman Solar, LLC Application for Market-Based Rate Authority to be effective 8/26/2019.

Filed Date: 6/26/19.

Accession Number: 20190626-5186.

Comments Due: 5 p.m. ET 7/17/19.

Docket Numbers: ER19-2267-000.

Applicants: TransCanada Power Marketing Ltd.

Description: § 205(d) Rate Filing: TransCanada Power Marketing Revised Electric Tariff to be effective 6/27/2019.

Filed Date: 6/26/19.

Accession Number: 20190626-5187.

Comments Due: 5 p.m. ET 7/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2019.
Nathaniel J. Davis, Sr.,
Deputy Secretary.

[FR Doc. 2019-14092 Filed 7-1-19; 8:45 am]

BILLING CODE 6717-01-P